ENVIRONMENTAL PROTECTION AGENCY

40 CFR Part 180

[EPA-HQ-OPP-2017-0006; FRL-9971-46]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before February 26, 2018.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (7511P), main telephone number: (703) 305-7090; email address: BPPDFRNotices@epa.gov., Michael Goodis, Registration Division (7505P), main telephone number: (703) 305-7090; email address: RDFRNotices@epa.gov. The mailing address for each contact person is: Office of Pesticide Programs, Environmental Protection Agency, 1200 Pennsylvania Ave. NW, Washington, DC 20460-0001.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

III. New Tolerances for Non-Inerts

PP 7F8557. (EPA-HQ-OPP-2017-0429). E. I. Du Pont De Nemours and Company, Chestnut Run Plaza, 974 Centre Road, Wilmington, DE 19805, requests to establish a tolerance in 40 CFR part 180 for residues of the fungicide picoxystrobin in or on alfalfa, forage at 4 parts per million (ppm); alfalfa, hay at 5 ppm; alfalfa, seed at 9 ppm; almond hulls at 15 ppm; cotton, gin by-products at 40 ppm; cottonseed (Crop Subgroup 20C) at 4 ppm; grass, forage (Grown for Seed) at 40 ppm; grass, hay (Grown for Seed) at 80 ppm; head lettuce at 7 ppm; onion, bulb (Crop Subgroup 3-07A) at 0.8 ppm; onion, green (Crop Subgroup 3-07B) at 15; pea and bean, succulent shelled (Crop Subgroup 6B) at 3 ppm; peanut at 0.1 ppm; peanut, hay at 40 ppm; sunflower (Crop Subgroup 20B) at 3 ppm; tree nut except hulls (Crop Group 14-12) at 0.15 ppm; vegetable, brassica head and stem (Crop Group 5-16) at 5 ppm; vegetable, cucurbit (Crop Group 9) at 0.7 ppm; vegetable, fruiting (Crop Group 8-10) at 1.5 ppm; vegetable, leaf petiole (Crop Subgroup 22B) at 40 ppm; vegetable, leafy except head lettuce (Crop Group 4-16) at 60 ppm; vegetable, leaves of root and tuber (Crop Group 2) at 40 ppm; vegetable, legume, edible podded (Crop Subgroup 6A) at 4 ppm; vegetable, root (Crop Subgroup 1A) at 0.6 ppm; and vegetable, tuberous and corm (Crop Subgroup 1C) at 0.06 ppm. The liquid chromatography/triple quadrupole mass spectrometry (LC/MS/MS) is used to measure and evaluate the chemical picoxystrobin. Contact: RD.

IV. Amended Tolerance

1. PP 5F8521. (EPA-HQ-OPP-2015-0787). K-I Chemical USA, Inc., 11 Martine Ave., Suite 970, White Plains, NY 10606, requests to establish tolerances in 40 CFR 180.659 for residues of the herbicide pyroxasulfone (3-[(5-(difluoromethoxy)-1-methyl-3-(trifluoromethyl) pyrazole-4-ylmethylsulfonyl]-4,5-dihydro-5,5-dimethyl-1,2-oxazole) and its metabolites in or on Crop Subgroup 1C, tuberous and corm vegetables (except granular/flakes and chips) at 0.05 ppm; Crop Group 3-07, bulb vegetables at 0.15 ppm; potatoes, granular/flakes at 0.3 ppm and potato chips at 0.06 ppm. The high performance LC/MS/MS methods has been proposed to enforce the tolerance expression for pyroxasulfone. Contact: RD.

2. PP 7E8556. (EPA-HQ-OPP-2017-0224). Interregional Research Project No. 4 (IR-4), Rutgers, The State University of New Jersey, 500 College Road East, Suite 201 W, Princeton, NJ 08540, proposes upon establishment of tolerances referenced in this document under “New Tolerances” for PP 7E8556, to remove existing tolerances in 40 CFR 180.613(a) for the residues of the insecticide flonicamid, including its metabolites and degradates, determined by measuring only the sum of flonicamid, N-(cyanomethyl)-4-(trifluoromethyl)-3-pyridinecarboxamide, and its metabolites, TFNA (4-trifluoromethylnicotinic acid), TFNA-AM (4-trifluoromethylnicotinamide), and TFNG, N-(4-trifluoromethylnicotinoyl)glycine, calculated as the stoichiometric equivalent of flonicamid, in or on vegetable, leafy, except brassica, group 4, except spinach at 4.0 ppm, brassica, head and stem, subgroup 5A at 1.5 ppm, brassica, leafy greens, subgroup 5B at 16 ppm, radish, tops at 16 ppm, turnip, greens at 16 ppm, and cotton, undelinted seed at 0.50 ppm. Contact: RD.

3. PP 7E8587. (EPA-HQ-OPP-2017-0465). IR-4, IR-4 Project Headquarters, Rutgers, The State University of NJ, 500 College Road East, Suite 201 W, Princeton, NJ 08540, requests to amend 40 CFR 180.368 by removing the tolerances for residues of the herbicide S-metalochlor including its metabolites and degradates in or on Asparagus at 0.10 ppm; beet, garden, leaves at 1.8 ppm; turnip, greens at 1.8 ppm; brassica, head and stem, subgroup 5A at 0.60 ppm; brassica, leafy greens, subgroup 5B at 1.8 ppm; cotton, undelinted seed at 0.10 ppm; leaf petioles, subgroup 4B at 0.10 ppm. A gas chromatography-nitrogen phosphorus detection (GC/NPD) method has been submitted to the Agency for determining residues in/on crop commodities and is published in PAM Vol. II, Method I. Contact: RD.

4. PP 7E8610. (EPA-HQ-OPP-2017-0562). IR-4, IR-4 Project Headquarters, Rutgers, The State University of NJ, 500 College Road East, Suite 201 W, Princeton, NJ 08540, requests to amend 40 CFR 180.546 by removing the tolerance for residues of the fungicide mefenoxam, including its metabolites and degradates in or on kiwifruit at 0.10 ppm. The analytical methods cited are the Novartis Crop Protection Method 456-98, “Confirmatory Analytical Method for the Enantioselective Determination of Residues of Parent Metalaxyl (CGA-48988) or Mefenoxam (CGA-329351) in Crop Substrates by Chiral High Performance Liquid Chromatography with Mass Spectrometric Detection”, and the Ciba-Geigy Corporation Procedure AG-395, “Improved Method for the Determination of Total Residues of Metalaxyl in Crop as 2,6-dimethylaniline”. This total residue method is used for the determination of the combined residues of metalaxyl N-(2,6-dimethylphenyl)-N-(methoxyacetyl) alanine methyl ester and its metabolites which contain the 2,6-dimethylaniline (2,6-DMA) moiety in crop samples. Contact: RD.

5. PP 7E8613. (EPA-HQ-OPP-2017-0587). IR-4, Rutgers, The State University of New Jersey, 500 College Road East, Suite 201 W, Princeton, NJ 08540, proposes upon establishment of tolerances referenced in this document under “New Tolerances” for PP 7E8613, to remove existing tolerances in 40 CFR 180.675 for residues of the insecticide tolfenpyrad, (4-chloro-3-ethyl-1-methyl-N-[4-(ptolyloxy)benzyl]pyrazole-5-carboxamide), including it metabolites and degradates, in or on cotton, undelinted seed at 0.70 ppm; grape at 2.0 ppm; potato at 0.01 ppm; and vegetable, leafy, except brassica, group 4 at 30.0 ppm. The LC/MS/MS method is used to measure and evaluate the chemical. Contact: RD.

V. New Tolerance Exemptions for Non-Inerts (Except PIPS)

1. PP 6F8504. (EPA-HQ-OPP-2017-0565). Gowan Company LLC, P.O. Box 5569, Yuma, AZ 85366-5569, requests to establish an exemption from the requirement of a tolerance in 40 CFR part 180 for residues of the biochemical fungicide Extract of Swinglea glutinosa in or on all food commodities. The petitioner believes no analytical method is needed because the information supporting the request for exemption indicates limited exposure and no risk. Contact: BPPD.

VI. New Tolerances For Non-Inerts

1. PP 5F8521. (EPA-HQ-OPP-2015-0787). K-I Chemical USA, Inc., 11 Martine Ave., Suite 970, White Plains, NY 10606, requests to establish tolerances in 40 CFR 180.659 for residues of the herbicide pyroxasulfone (3-[(5-(difluoromethoxy)-1-methyl-3-(trifluoromethyl) pyrazole-4-ylmethylsulfonyl]-4,5-dihydro-5,5-dimethyl-1,2-oxazole) and its metabolites in or on Crop Subgroup 1C, tuberous and corm vegetables (except granular/flakes and chips) at 0.05 ppm; Crop Group 3-07, bulb vegetables at 0.15 ppm; potatoes, granular/flakes at 0.3 ppm and potato chips at 0.06 ppm. The high performance LC/MS/MS methods has been proposed to enforce the tolerance expression for pyroxasulfone. Contact: RD.

2. PP 7E8556. (EPA-HQ-OPP-2017-0224). IR-4, Rutgers, The State University of New Jersey, 500 College Road East, Suite 201W, Princeton, NJ 08540, requests to establish a tolerance in 40 CFR part 180 for residues of the insecticide flonicamid, including its metabolites and degradates, determined by measuring only the sum of flonicamid, N-(cyanomethyl)-4-(trifluoromethyl)-3-pyridinecarboxamide, and its metabolites, TFNA (4-trifluoromethylnicotinic acid), TFNA-AM (4-trifluoromethylnicotinamide), and TFNG, N-(4-trifluoromethylnicotinoyl)glycine, calculated as the stoichiometric equivalent of flonicamid, in or on raw agricultural commodities as follows:

a. Amend 180.613 (a) General. (1) by establishing a tolerance in or on celtuce at 4.0 ppm; Florence fennel at 4.0 ppm; kohlrabi at 1.5 ppm; and Crop Group Expansions/Conversions for brassica, leafy greens, subgroup 4-16B at 16 ppm; cottonseed subgroup 20C at 0.60 ppm; leaf petiole vegetable subgroup 22B at 4.0 ppm; leafy greens subgroup 4-16A, except spinach at 4.0 ppm; and vegetable, brassica, head and stem, group 5-16 at 1.5 ppm, and

b. Amend 180.613(c) Tolerances with regional registrations, by establishing a tolerance for clover, forage at 0.9 ppm and clover, hay at 4.0 ppm.

Analytical methodology to determine above designated residues of flonicamid for the majority of crops includes an initial extraction with acetonitrile (ACN)/deionized (DI) water, followed by a liquid-liquid partition with ethyl acetate. The residue method for wheat straw is similar, except that a C18 solid phase extraction (SPE) is added prior to the liquid-liquid partition. The final sample solution is quantitated using a liquid chromatograph (LC) equipped with a reverse phase column and a triple quadruple mass spectrometer (MS/MS). Contact: RD.

3. PP 7E8587. (EPA-HQ-OPP-2017-0465). IR-4, IR-4 Project Headquarters, Rutgers, The State University of NJ, 500 College Road East, Suite 201 W, Princeton, NJ 08540, requests to establish a tolerance in 40 CFR part 180 for residues of the herbicide S-metalochlor including its metabolites and degradates in or on the raw agricultural commodities stevia, dried leaves at 15.0 ppm; vegetable, leaves of root and tuber, group 2, except sugar beet at 2.0 ppm; Swiss chard at 0.10 ppm; vegetable, brassica, head and stem, group 5-16 at 0.60 ppm; brassica, leafy greens, subgroup 4-16B, except Chinese broccoli at 1.8 ppm; stalk and stem vegetable subgroup 22A, except celtuce, Florence fennel, and kohlrabi at 0.10 ppm; leaf petiole vegetable subgroup 22B at 0.10 ppm; cottonseed subgroup 20C at 0.10 ppm; celtuce at 0.10 ppm; Florence fennel at 0.10 ppm; kohlrabi at 0.60 ppm, and Chinese broccoli at 0.60 ppm. A GC/NPD method has been submitted to the Agency for determining residues in/on crop commodities and is published in PAM Vol. II, Method I. Contact: RD.

4. PP 7E8610. (EPA-HQ-OPP-2017-0562). IR-4, IR-4 Project Headquarters, Rutgers, The State University of NJ, 500 College Road East, Suite 201 W, Princeton, NJ 08540, requests to establish a tolerance in 40 CFR part 180 for residues of the fungicide mefenoxam, including its metabolites and degradates in or on the raw agricultural commodities cacao bean, bean at 0.2 ppm; wasabi, tops at 6.0 ppm; wasabi, stem at 3.0 ppm; and fruit, small, vine climbing, except grape, crop subgroup 13-07E at 0.10 ppm. The analytical methods cited are the Novartis Crop Protection Method 456-98, “Confirmatory Analytical Method for the Enantioselective Determination of Residues of Parent Metalaxyl (CGA-48988) or Mefenoxam (CGA-329351) in Crop Substrates by Chiral High Performance Liquid Chromatography with Mass Spectrometric Detection”, and the Ciba-Geigy Corporation Procedure AG-395, “Improved Method for the Determination of Total Residues of Metalaxyl in Crop as 2,6-dimethylaniline”. This total residue method is used for the determination of the combined residues of metalaxyl N-(2,6-dimethylphenyl)-N-(methoxyacetyl) alanine methyl ester and its metabolites which contain the 2,6-dimethylaniline (2,6-DMA) moiety in crop samples. Contact: RD.

5. PP 7E8613. (EPA-HQ-OPP-2017-0587) from IR-4, Rutgers, The State University of New Jersey, 500 College Road East, Suite 201 W, Princeton, NJ 08540, requests to establish tolerances in 40 CFR part 180.675 for residues of the insecticide tolfenpyrad, (4-chloro-3-ethyl-1-methyl-N-[4-(p-tolyloxy)benzyl]pyrazole-5-carboxamide), including it metabolites and degradates, in or on arugula at 30.0 ppm; avocado at 1.5 ppm; berry, low growing, subgroup 13-07G, except cranberry and blueberry, lowbush at 3.0 ppm; bushberry, subgroup 13-07B at 7.0 ppm; caneberry, subgroup 13-07A at 7.0 ppm; celtuce at 30.0 ppm; cottonseed, subgroup 20C at 0.70 ppm; Florence fennel at 30.0 ppm; fruit, small, vine climbing, except fuzzy kiwifruit, subgroup 13-07F at 2.0 ppm; garden cress at 30.0 ppm; leafy greens, subgroup 4-16A at 30.0 ppm; leaf petiole vegetable, subgroup 22B at 30.0 ppm; onion, bulb, subgroup 3-07A at 0.09 ppm; onion, green, subgroup 3-07B at 10.0 ppm; upland cress at 30.0 ppm; vegetable, fruiting, group 8-10 at 1.0 ppm; and vegetable, tuberous and corm, subgroup 1C at 0.01 ppm. The LC/MS/MS method is used to measure and evaluate the chemical. Contact: RD.

Authority: 21 U.S.C. 346a.

Dated: December 4, 2017.
Delores Barber,
Director, Information Technology and Resources Management Division, Office of Pesticide Programs.

[FR Doc. 2018-01498 Filed 1-25-18; 8:45 am]

BILLING CODE 6560-50-P